DEPARTMENT OF AGRICULTURE

Forest Service

GMUG Resource Advisory Committee

AGENCY: Forest Service, USDA.

ACTION: Notice of meeting.

SUMMARY: The GMUG RAC will meet in Delta, Colorado. The committee is meeting as authorized under the Secure Rural Schools and Community Self-Determination Act (Pub. L. 110-343) and in compliance with the Federal Advisory Committee Act. The purpose of the meeting is to gather the appointed committee members together to decide the review and recommending criteria that the committee will use and to review and make recommendations for Title II Project funding within Garfield, Mesa, Delta, Gunnison and Montrose Counties, Colorado.

DATES: The meeting will be held Tuesday, September 14, 2010, at 1 p.m.

ADDRESSES: The meeting will be held at the Forest Supervisor's Office at 2250 Highway 50, Delta, Colorado in the South Spruce Conference Room. Written comments should be sent to Attn: GMUG RAC, 2250 Highway 50, Delta, CO 81416. Comments may also be sent via e-mail to lloupe@fs.fed.us or via facsimile to Attn: Lee Ann Loupe, RAC Coordinator at 970.874.6698.

All comments, including names and addresses when provided, are placed in the record and are available for public inspection and copying. The public may inspect comments received at http://www.fs.fed.us/r2/gmug/ under “GMUG RAC Information.” Visitors are encouraged to call ahead to Lee Ann Loupe, RAC Coordinator at 970.874.6717 to facilitate entry into the building.

FOR FURTHER INFORMATION CONTACT: Lee Ann Loupe, GMUG RAC Coordinator, 970.8874.6717 or e-mail: lloupe@fs.fed.us

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: The appointed Committee members will decide and approve the review process and evaluation criteria for Title II projects; review and discuss the projects that were submitted to the Committee by August 2; and make recommendations for funding/approval of those projects to utilize Title II funds within Garfield, Mesa, Delta, Gunnison and Montrose Counties, Colorado.

Persons who wish to bring related matters to the attention of the Committee may file written statements with the Committee staff before or after the meeting. Public input sessions will be provided and individuals who made written requests by September 8, 2010 will have the opportunity to address the Comittee at those sessions.

Dated: August 11, 2010.
Sherry Hazelhurst,
Deputy Forest Supervisor/GMUG RAC DFO.

[FR Doc. 2010-20576 Filed 8-20-10; 8:45 am]

BILLING CODE 3410-11-P